DEPARTMENT OF THE INTERIOR

Fish and Wildlife Service

[FWS-R6-ES-2015-N189; 60120-1113-0000-C2]

Endangered and Threatened Wildlife and Plants; Draft Recovery Plan for Preble's Meadow Jumping Mouse

AGENCY: Fish and Wildlife Service, Interior.

ACTION: Notice of document availability for review and comment.

SUMMARY: The U.S. Fish and Wildlife Service (Service) announces the availability of a draft recovery plan for the Preble's meadow jumping mouse. This species is federally listed as threatened under the Endangered Species Act of 1973, as amended (ESA). The Service solicits review and comment from the public on this draft plan.

DATES: Comments on the draft recovery plan must be received on or before June 10, 2016.

ADDRESSES: Copies of the draft revised recovery plan are available by request from the Colorado Field Office, U.S. Fish and Wildlife Service, PO Box 25486-DFC, Denver, CO 80225; telephone 303-236-4773. Submit comments on the draft recovery plan to the Field Supervisor at this same address. An electronic copy of the draft recovery plan is available at http://www.fws.gov/endangered/species/recovery-plans.html.

FOR FURTHER INFORMATION CONTACT: Field Supervisor, at the above address, or telephone 303-236-4773.

SUPPLEMENTARY INFORMATION:

Background

Restoring an endangered or threatened animal or plant to the point where it is again a secure, self-sustaining member of its ecosystem is a primary goal of the Service's endangered species program. To help guide the recovery effort, the Service prepares recovery plans for the federally listed species native to the United States where a plan will promote the conservation of the species. Recovery plans describe site-specific actions necessary for the conservation of the species; establish objective, measurable criteria which, when met, would result in a determination that the species no longer needs the protection of the ESA (16 U.S.C. 1531 et seq.); and provide estimates of the time and cost for implementing the needed recovery measures.

The ESA requires recovery plans for listed species unless such a plan would not promote the conservation of a particular species. Section 4(f) of the ESA, as amended in 1988, requires that public notice and opportunity for public review and comment be provided during recovery plan development. The Service will consider all information received during a public comment period when preparing each new or revised recovery plan for approval. The Service and other Federal agencies also will take these comments into consideration in the course of implementing approved recovery plans. It is our policy to request peer review of recovery plans. We will summarize and respond to the issues raised by the public and peer reviewers in an appendix to the approved recovery plan.

The Preble's meadow jumping mouse (Zapus hudsonius preblei), found in foothills riparian habitat from southeastern Wyoming to south central Colorado, was listed as a threatened subspecies under the ESA, effective June 12, 1998 (May 13, 1998; 63 FR 26517). At the time of listing, the subspecies was threatened by habitat alteration, degradation, loss, and fragmentation resulting from urban development, flood control, water development, agriculture, and other human land uses. No range-wide population estimates exist for the subspecies. Numerous surveys conducted in the last decade lead us to believe that there are adequate numbers and distributions of Preble's meadow jumping mouse populations present today to allow recovery of the subspecies; however, many of these populations face continued threats to their persistence.

The recovery strategy is based upon the assumption that if specific criteria are met for certain existing populations, the Preble's mouse can be recovered. These criteria require that populations are maintained in designated habitats distributed throughout the existing range, the populations and habitats are secure from decline due to existing threats listed above, the populations are self-sustaining and persistent, a long-term management plan and cooperative agreement is completed, and there is effective public involvement.

Request for Public Comments

The Service solicits public comments on the draft recovery plan. All comments received by the date specified in DATES will be considered prior to approval of the plan. Written comments and materials regarding the plan should be addressed to the Field Supervisor (see ADDRESSES section). Comments and materials received will be available, by appointment, for public inspection during normal business hours at the above address.

Authority

The authority for this action is section 4(f) of the Endangered Species Act, 16 U.S.C. 1533(f).

Dated: February 25, 2016.
Matt Hogan,
Acting Regional Director, Denver, Colorado.

[FR Doc. 2016-08241 Filed 4-8-16; 8:45 am]

BILLING CODE 4333-15-P